DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and have been removed from the list of Specially Designated Nationals and Blocked Persons. Additionally, OFAC is publishing an update to the identifying information of a person currently included in the list of Specially Designated Nationals and Blocked Persons.

DATES: See SUPPLEMENTARY INFORMATION section for effective date.

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On December 2, 2020, OFAC determined that the property and interests in property subject to U.S. jurisdiction of the following persons are unblocked and they have been removed from the SDN List under the relevant sanctions authorities listed below.

Individuals

1. GONZALEZ MEJIA, Cristian David (a.k.a. GONZALES MEJIA, Cristian), Basel, Switzerland; DOB 01 Aug 1987; POB Bogota, Colombia; citizen Colombia; Cedula No. 1126098461 (Colombia) (individual) [SDNTK].

2. VALENCIA JAIME, Rafael Angel, c/o AGRICOLA GAXIOLA S.A. DE C.V., Hermosillo, Sonora, Mexico; c/o TEMPLE DEL PITIC S.A. DE C.V., Hermosillo, Sonora, Mexico; Ave Articulo 123 109, Hermosillo, Sonora 83287, Mexico; DOB 22 Jan 1968; POB Hermosillo, Sonora, Mexico; nationality Mexico; citizen Mexico; Passport 02260105052 (Mexico); C.U.R.P. VAJR680122HSRLMF08 (Mexico) (individual) [SDNTK].

3. GRAJALES BERNAL, Sonia Patricia, c/o C.A.D. S.A., Bogota, Colombia; c/o G.L.G. S.A., Bogota, Colombia; c/o GRAJALES S.A., La Union, Valle, Colombia; c/o ILOVIN S.A., Bogota, Colombia; c/o JOSAFAT S.A., Tulua, Valle, Colombia; c/o MACEDONIA LTDA., La Union, Valle, Colombia; c/o SALIM S.A., La Union, Valle, Colombia; c/o SALOME GRAJALES Y CIA. LTDA., Bogota, Colombia; c/o ASESORES CONSULTORES ASOCIADOS LTDA., Cali, Colombia; c/o CALI@TELE.COM LTDA., Cali, Colombia; c/o COMUNICACIONES ABIERTAS CAMARY LTDA., Cali, Colombia; c/o FUNDACION CENTRO FRUTICOLA ANDINO, La Union, Valle, Colombia; c/o JEHOVA LTDA., Tulua, Valle, Colombia; Cedula No. 29613767 (Colombia) (individual) [SDNT].

4. POSSO, Maria Esperanza, c/o HOTEL LOS VINEDOS, La Union, Valle, Colombia; c/o INDUSTRIAS DEL ESPIRITU SANTO S.A., Malambo, Atlantico, Colombia; c/o TRANSPORTES DEL ESPIRITU SANTO S.A., La Union, Valle, Colombia; c/o FRUTAS DE LA COSTA S.A., Malambo, Atlantico, Colombia; c/o CONSTRUCCIONES E INVERSIONES LTDA., La Union, Valle, Colombia; c/o DOXA S.A., La Union, Valle, Colombia; Cedula No. 29613348 (Colombia) (individual) [SDNT].

5. MUNOZ PAZ, Adriana del Socorro, c/o INVERSIONES Y CONSTRUCCIONES VALLE S.A., Cali, Colombia; DOB 01 Oct 1966; Cedula No. 31950689 (Colombia) (individual) [SDNT].

Additionally, on December 2, 2020, OFAC updated the SDN List for the following person, whose property and interests in property continue to be blocked.

Individual

From:

DAVILA LOPEZ, Jose Ramon (a.k.a. DAVILA LOPEZ, Juan Ramon; a.k.a. RUBIO CONDE, David; a.k.a. TORRES HERNANDEZ, Antonio), Mexico; Calle 22, Valle Hermoso, Tamaulipas, Mexico; DOB 31 Aug 1978; alt. DOB 11 Mar 1979; POB Tijuana, Baja, Mexico; citizen Mexico; nationality Mexico (individual) [SDNTK]

To:

DAVILA LOPEZ, Jose Ramon (a.k.a. RUBIO CONDE, David; a.k.a. TORRES HERNANDEZ, Antonio), Mexico; Calle 22, Valle Hermoso, Tamaulipas, Mexico; DOB 31 Aug 1978; POB Tijuana, Baja California, Mexico; nationality Mexico; citizen Mexico; Gender Male; C.U.R.P. DALR780831HBCVPM06 (Mexico) (individual) [SDNTK].

Dated: December 2, 2020.
Gregory T. Gatjanis,
Associate Director, Office of Global Targeting, Office of Foreign Assets Control.

[FR Doc. 2020-27431 Filed 12-11-20; 8:45 am]

BILLING CODE 4810-AL-P